FEDERAL ELECTION COMMISSION

Sunshine Act Meetings

FEDERAL REGISTER CITATION NOTICE OF PREVIOUS ANNOUNCEMENT: 89 FR 89012.

PREVIOUSLY ANNOUNCED TIME AND DATE OF THE MEETING: Thursday, November 14, 2024 at 11:00 a.m., Hybrid Meeting: 1050 First Street NE, Washington, DC (12th Floor) and virtual.

CHANGE IN THE MEETING: The November 14, 2024 Open Meeting was canceled.

CONTACT PERSON FOR MORE INFORMATION: Judith Ingram, Press Officer. Telephone: (202) 694-1220.

(Authority: Government in the Sunshine Act, 5 U.S.C. 552b)

Laura E. Sinram,
Secretary and Clerk of the Commission.

[FR Doc. 2024-30107 Filed 12-16-24; 11:15 am]

BILLING CODE 6715-01-P